FEDERAL TRADE COMMISSION

Granting of Requests for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted
June 1, 2020 Thru June 30, 2020
06/01/2020
20200974 | G | Robert Faith; Bruce C. Ward; Robert Faith.
06/02/2020
20201062 | G | Molina Healthcare, Inc.; Magellan Health, Inc.; Molina Healthcare, Inc.
20201069 | G | KKR Rainbow Aggregator L.P.; Agnaten SE; KKR Rainbow Aggregator L.P.
20201071 | G | Aurora Equity Partners V, L.P.; FMG TopCo, LLC; Aurora Equity Partners V, L.P.
06/04/2020
20191377 | G | ZF Friedrichshafen AG; WABCO Holdings Inc.; ZF Friedrichshafen AG.
20191792 | G | Odyssey Investment Partners Fund V, LP; General Dynamics Corporation; Odyssey Investment Partners Fund V, LP.
20200514 | G | The Charles Schwab Corporation; TD Ameritrade Holding Corp.; The Charles Schwab Corporation.
20201051 | G | Orlando Health, Inc.; Community Health Systems, Inc.; Orlando Health, Inc.
06/05/2020
20201057 | G | Koch Industries, Inc.; ON Semiconductor Corporation; Koch Industries, Inc.
06/11/2020
20201068 | G | Elliott Associates, L.P.; Softbank Group Corp.; Elliott Associates, L.P.
20201070 | G | Christopher L. Winfrey; Charter Communications, Inc.; Christopher L. Winfrey.
20201073 | G | VanEck Vectors ETF Trust; Core Laboratories N.V.; VanEck Vectors ETF Trust.
20201079 | G | Insight Venture Partners Growth-Buyout Coinvestment Fund; nCino, Inc.; Insight Venture Partners Growth-Buyout Coinvestment Fund.
20201082 | G | Lion Capital Fund III, L.P.; Lion/Hendrix Corp.; Lion Capital Fund III, L.P.
20201086 | G | Brynwood Partners VIII L.P.; Nestle S. A.; Brynwood Partners VIII L.P.
20201088 | G | Spectrum Equity VII, L.P.; OrangeDot Inc.; Spectrum Equity VII, L.P.
20201090 | G | Thomas M. Rutledge; Charter Communications, Inc.; Thomas M. Rutledge.
20201091 | G | Bluestem Aggregator LLC; Northstar Holdings Inc. (DIP); Bluestem Aggregator LLC.
20201096 | G | Arlington Capital Partners V, L.P.; J&J Maintenance, Inc.; Arlington Capital Partners V, L.P.
20201101 | G | Merck & Co., Inc.; Wayne and Wendy Holman; Merck & Co., Inc.
06/15/2020
20201080 | G | Sinch AB; SAP SE; Sinch AB.
06/17/2020
20201099 | G | Merck & Co., Inc.; Themis Bioscience GmbH; Merck & Co., Inc.
20201102 | G | Cisco Systems, Inc.; ThousandEyes, Inc.; Cisco Systems, Inc.
20201108 | G | Akorn Holdings Topco LLC; Akorn, Inc.; Akorn Holdings Topco LLC.
20201109 | G | BBH Capital Partners V, L.P.; Sunstar Insurance Group, LLC; BBH Capital Partners V, L.P.
20201112 | G | National Instruments Corporation; Optimal Plus Ltd.; National Instruments Corporation.
20201113 | G | Uno Co-Invest LP.; USI Advantage Corp.; Uno Co-Invest LP.
20201114 | G | Zynga Inc.; Peak Oyun Yazilim Pazarlama Anonim Sirketi; Zynga Inc.
20201117 | G | KKR Management LLP; USI Advantage Corp.; KKR Management LLP.
20201119 | G | Carlyle Partners VII, L.P.; ABRY Partners VIII, L.P.; Carlyle Partners VII, L.P.
20201120 | G | Groundworks Holding, LLC; Bob Genord; Groundworks Holding, LLC.
06/22/2020
20201125 | G | Delta Parent Holdings, Inc.; Verus Analytics Limited Partnership; Delta Parent Holdings, Inc.
20201126 | G | Apax X USD L.P.; KAR Auction Services, Inc.; Apax X USD L.P.
20201127 | G | GTCR Fund XI/A LP; Great Point Partners II, L.P.; GTCR Fund XI/A LP.
20201130 | G | NICE Ltd.; Guardian Analytics, Inc; NICE Ltd.
20201131 | G | Johnson & Johnson; Fate Therapeutics, Inc.; Johnson & Johnson.
20201132 | G | The Goldman Sachs Group, Inc.; Steven M. H. Wallman; The Goldman Sachs Group, Inc.
20201133 | G | NetApp, Inc.; Spotinst Ltd.; NetApp, Inc.
20201135 | G | Wind Point Partners IX-A, L.P.; Handgards, Inc.; Wind Point Partners IX-A, L.P.
20201136 | G | One Equity Partners VII, L.P.; Cerberus Institutional Partners VI, L.P.; One Equity Partners VII, L.P.
20201138 | G | Zip Co Ltd; QuadPay Inc.; Zip Co Ltd.
20201143 | G | ABRY Senior Equity V, L.P.; M. Nazie Eftekhari; ABRY Senior Equity V, L.P.
06/24/2020
20200854 | S | Tri Star Energy, LLC; Mr. Ronald L. Hollingsworth; Tri Star Energy, LLC.
20201115 | G | TowerBrook Investors V (Onshore), L.P.; KKR Enterprise Co-Invest L.P.; TowerBrook Investors V (Onshore), L.P.
20201116 | G | TowerBrook Investors V (Onshore), L.P.; Ascension Health Alliance; TowerBrook Investors V (Onshore), L.P.
06/26/2020
20191689 | S | Eldorado Resorts, Inc.; Caesars Entertainment Corporation; Eldorado Resorts, Inc.
20201104 | G | AdaptHealth Corp.; Linden Capital Partners IV-A LP; AdaptHealth Corp.
20201111 | G | One Equity Partners VII, L.P.; AdaptHealth Corp.; One Equity Partners VII, L.P.
06/29/2020
20201151 | G | U.S. Aggregator 1 LP; Emerald Holding, Inc.; U.S. Aggregator 1 LP.
20201154 | G | Halmont Properties Corporation; Superior Plus Corp.; Halmont Properties Corporation.
20201163 | G | HPS Offshore Mezzanine Partners; Albertsons Investor Holdings LLC; HPS Offshore Mezzanine Partners.
20201165 | G | William Goldring; Wolf Pen Branch, LP; William Goldring.
06/30/2020
20201153 | G | Thomas H. Lee Parallel Fund VIII, L.P.; Seniorlink Incorporated; Thomas H. Lee Parallel Fund VIII, L.P.
20201164 | G | Trive Capital Fund III LP; Seven Aces Limited; Trive Capital Fund III LP.

FOR FURTHER INFORMATION CONTACT: Theresa Kingsberry (202-326-3100), Program Support Specialist, Federal Trade Commission Premerger Notification Office, Bureau of Competition, Room CC-5301, Washington, DC 20024.

By direction of the Commission.
April J. Tabor,
Secretary.

[FR Doc. 2020-16310 Filed 7-27-20; 8:45 am]

BILLING CODE 6750-01-P